DEPARTMENT OF ENERGY

Federal Energy Regulatory Commission

[Project No. 2531-075]

Brookfield White Pine Hydro LLC; Notice of Application Accepted for Filing, Soliciting Motions To Intervene and Protests, Ready for Environmental Analysis, and Soliciting Comments, Recommendations, Preliminary Terms and Conditions, and Preliminary Fishway Prescriptions

Take notice that the following hydroelectric application has been filed with the Commission and is available for public inspection.

a. Type of Application: New Major License.

b. Project No.: 2531-075.

c. Date filed: December 15, 2015.

d. Applicant: Brookfield White Pine Hydro LLC (White Pine Hydro).

e. Name of Project: West Buxton Hydroelectric Project.

f. Location: The existing project is located on the Saco River in the Towns of Buxton, Hollis, and Standish, within York and Cumberland Counties, Maine. The project does not affect federal lands.

g. Filed Pursuant to: Federal Power Act 16 U.S.C. 791(a)-825(r).

h. Applicant Contact: Frank Dunlap, Licensing Specialist, Brookfield White Pine Hydro LLC, 150 Main Street, Lewiston, ME 04240; Telephone—(207) 755-5603; Email—Frank.Dunlap@BrookfieldRenewable.com OR Kelley Maloney, Manager of licensing and Compliance, Brookfield White Pine Hydro LLC, 150 Maine Street, Lewiston, ME 04240; Telephone—(207) 755-5606.

i. FERC Contact: Allan Creamer, (202) 502-8365, or allan.creamer@ferc.gov.

j. Deadline for filing motions to intervene and protests, comments, recommendations, preliminary terms and conditions, and preliminary prescriptions: 60 days from the issuance date of this notice; reply comments are due 105 days from the issuance date of this notice.

The Commission strongly encourages electronic filing. Please file motions to intervene, protests, comments, recommendations, preliminary terms and conditions, and preliminary fishway prescriptions using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-2531-075.

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application has been accepted for filing and is now ready for environmental analysis.

l. The West Buxton Project consists of: (1) A 585-foot-long by 30-foot-high concrete gravity dam with a crest elevation of 173.8 feet (United States Geological Survey or USGS datum), consisting of (i) two overflow sections topped with three inflatable rubber dam sections that have a crest elevation of 178.1 feet (USGS datum) when fully inflated, (ii) a gated section containing a 20-foot-wide by 15-foot-high vertical lift gate, (iii) two 40-foot-wide by 11-foot-high stanchion sections, (iv) an 11-foot-wide log sluice section, and (v) an intake structure composed of two vertical lift gates regulating the flow of water to the lower powerhouse and five gate openings (two sealed by stoplogs) controlling water flow to the upper powerhouse; (2) a 118-acre impoundment at a normal pool elevation of 177.8 feet (USGS datum); (3) a 105-foot-long by 39-foot-wide upper powerhouse integral with the dam, containing five horizontal axis Francis turbine generating units that total 3,812 kW; (4) a 241.5-foot-long concrete conduit leading from the intake structure to a 74-foot-long by 30 to 45-foot-wide surge chamber, and then to the lower powerhouse; (5) a 51.2-foot long by 45.5-foot-wide lower powerhouse, containing one 4,000 kW vertical axis Kaplan turbine generating unit; (6) two 38-kV transmission lines, connecting the upper and lower powerhouses to the non-project West Buxton switching station; and (7) appurtenant facilities.

White Pine Hydro operates the project in a run-of-river mode, in accordance with the 1997 Saco River Instream Flow Agreement, which provides that outflow approximate inflow from the upstream Bonny Eagle Project No. 2529 and that White Pine Hydro act to minimize impoundment level fluctuations. White Pine Hydro also operates the project with a minimum outflow of 768 cfs, or inflow, whichever is less, in accordance with the project's current water quality certificate. The project generates an annual average of 34,007 MWh.

m. A copy of the application is available for review at the Commission in the Public Reference Room, or may be viewed on the Commission's Web site at http://www.ferc.gov using the “eLibrary” link. Enter the docket number excluding the last three digits in the docket number field to access the document. For assistance, contact FERC Online Support. A copy is also available for inspection and reproduction at the address in item h above.

Register online at http://www.ferc.gov/docs-filing/esubscription.asp to be notified via email of new filings and issuances related to this or other pending projects. For assistance, contact FERC Online Support.

n. Anyone may submit comments, a protest, or a motion to intervene in accordance with the requirements of Rules of Practice and Procedure, 18 CFR 385.210, .211, and .214. In determining the appropriate action to take, the Commission will consider all protests or other comments filed, but only those who file a motion to intervene in accordance with the Commission's Rules may become a party to the proceeding. Any comments, protests, or motions to intervene must be received on or before the specified comment date for the particular application.

All filings must: (1) Bear in all capital letters the title “PROTEST,” “MOTION TO INTERVENE,” “COMMENTS,” “REPLY COMMENTS,” “RECOMMENDATIONS,” “PRELIMINARY TERMS AND CONDITIONS,” or “PRELIMINARY FISHWAY PRESCRIPTIONS;” (2) set forth in the heading the name of the applicant and the project number of the application to which the filing responds; (3) furnish the name, address, and telephone number of the person protesting or intervening; and (4) otherwise comply with the requirements of 18 CFR 385.2001 through 385.2005. All comments, recommendations, terms and conditions or prescriptions must set forth their evidentiary basis and otherwise comply with the requirements of 18 CFR 4.34(b). Agencies may obtain copies of the application directly from the applicant. A copy of any protest or motion to intervene must be served upon each representative of the applicant specified in the particular application. A copy of all other filings in reference to this application must be accompanied by proof of service on all persons listed in the service list prepared by the Commission in this proceeding, in accordance with 18 CFR 4.34(b) and 385.2010.

o. Procedural Schedule: The application will be processed according to the following revised Hydro Licensing Schedule. Revisions to the schedule may be made as appropriate.

Milestone | Target date
Filing of recommendations, preliminary terms and conditions, and preliminary fishway prescriptions | December 2016.
Commission issues EA | April 2017.
Comments on EA or EIS | May 2017.
Modified terms and conditions | July 2017.

p. Final amendments to the application must be filed with the Commission no later than 30 days from the issuance date of this notice.

q. A license applicant must file no later than 60 days following the date of issuance of the notice of acceptance and ready for environmental analysis provided for in 5.22: (1) A copy of the water quality certification; (2) a copy of the request for certification, including proof of the date on which the certifying agency received the request; or (3) evidence of waiver of water quality certification.

Dated: October 20, 2016.
Kimberly D. Bose,
Secretary.

[FR Doc. 2016-25837 Filed 10-25-16; 8:45 am]

BILLING CODE 6717-01-P